NUCLEAR REGULATORY COMMISSION

[Docket No. 50-271; License No. Dpr-28]

Entergy Nuclear Vermont Yankee, LLC and Entergy Nuclear Operations, Inc.; Receipt of Request for Action Under 10 CFR 2.206

Notice is hereby given that by petition dated October 11, 2005, Mr. Jonathan M. Block requested that the Nuclear Regulatory Commission (NRC) take action with regard to Vermont Yankee Nuclear Power Station (Vermont Yankee). The petitioner requested that the NRC require a temporary closure or de-rating of Vermont Yankee.

As a basis for this request, the petitioner stated that evacuations would be impossible as a result of recent storm damage to the city of Keene, town of Hinsdale in New Hampshire, and other portions of New Hampshire that are part of existing evacuation routes for Vermont Yankee or within the effluent pathway in an emergency event.

The petition is being treated pursuant to 10 CFR 2.206 of the Commission's regulations. The petition has been referred to the Director of the Office of Nuclear Reactor Regulation. As provided by Section 2.206, appropriate action will be taken on this petition within a reasonable time. Copies of the petition are available for inspection at the Commission's Public Document Room, located at One White Flint North, Public File Area O1 F21, 11555 Rockville Pike (first floor), Rockville, Maryland. Publicly available records will be accessible from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland this 7th day of December, 2005.
For the Nuclear Regulatory Commission.
Cornelius F. Holden,
Deputy Director, Division of Operating Reactor Licensing, Office of Nuclear Reactor Regulation.

[FR Doc. E5-7300 Filed 12-13-05; 8:45 am]

BILLING CODE 7590-01-P